DEPARTMENT OF ENERGY

Federal Energy Regulatory Commission

Combined Notice of Filings

Take notice that the Commission has received the following Natural Gas Pipeline Rate and Refund Report filings:

Filings Instituting Proceedings

Docket Numbers: RP10-996-000.

Applicants: Dominion Cove Point LNG, LP.

Description: Report Filing: DCP-2016 Report of Operational Sales and Purchases of Gas.

Filed Date: 7/29/16.

Accession Number: 20160729-5131.

Comments Due: 5 p.m. ET 8/10/16.

Docket Numbers: RP16-1161-000.

Applicants: Alliance Pipeline L.P.

Description: § 4(d) Rate Filing: Negotiated Rate Interruptible Service to be effective 8/1/2016.

Filed Date: 8/4/16.

Accession Number: 20160804-5039.

Comments Due: 5 p.m. ET 8/16/16.

Docket Numbers: RP16-1162-000.

Applicants: Gulf Crossing Pipeline Company LLC.

Description: § 4(d) Rate Filing: Chesapeake Mutual Termination of Firm and Neg Rate Agmts to be effective 9/1/2016.

Filed Date: 8/5/16.

Accession Number: 20160805-5075.

Comments Due: 5 p.m. ET 8/15/16.

Docket Numbers: RP16-1163-000.

Applicants: East Tennessee Natural Gas, LLC.

Description: Compliance filing Loudon Expansion Recourse Rates in CP15-91-000 to be effective 9/1/2016.

Filed Date: 8/5/16.

Accession Number: 20160805-5097.

Comments Due: 5 p.m. ET 8/17/16.

Docket Numbers: RP16-1164-000.

Applicants: East Tennessee Natural Gas, LLC.

Description: § 4(d) Rate Filing: Negotiated Rate for Tate & Lyle Contract 410576 to be effective 9/1/2016.

Filed Date: 8/5/16.

Accession Number: 20160805-5101.

Comments Due: 5 p.m. ET 8/17/16.

Docket Numbers: RP16-1165-000.

Applicants: Guardian Pipeline, L.L.C.

Description: § 4(d) Rate Filing: Revisions to Rate Schedules and GT&C to be effective 9/7/2016.

Filed Date: 8/5/16.

Accession Number: 20160805-5154.

Comments Due: 5 p.m. ET 8/17/16.

Docket Numbers: RP16-1166-000.

Applicants: Rockies Express Pipeline LLC.

Description: § 4(d) Rate Filing: Neg Rate 2016-08-05 CP to be effective 8/6/2016.

Filed Date: 8/5/16.

Accession Number: 20160805-5176.

Comments Due: 5 p.m. ET 8/17/16.

Docket Numbers: RP16-1167-000.

Applicants: Algonquin Gas Transmission, LLC.

Description: § 4(d) Rate Filing: AGT Signature Block Modification to be effective 9/9/2016.

Filed Date: 8/9/16.

Accession Number: 20160809-5103.

Comments Due: 5 p.m. ET 8/22/16.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP16-961-001.

Applicants: Gulf South Pipeline Company, LP.

Description: Compliance filing Compliance Filing in Docket No. RP16-961-000 to be effective 8/1/2016.

Filed Date: 8/9/16.

Accession Number: 20160809-5143.

Comments Due: 5 p.m. ET 8/22/16.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 10, 2016.
Kimberly D. Bose,
Secretary.

[FR Doc. 2016-20285 Filed 8-23-16; 8:45 am]

BILLING CODE 6717-01-P